OVERSEAS PRIVATE INVESTMENT CORPORATION

Submission for OMB Review; Comment Request

AGENCY: Overseas Private Investment Corporation, IDCA.

ACTION: Request for comments.

SUMMARY: Under the provisions of the Paperwork Reduction Act (44 U.S.C. Chapter 35), agencies are required to publish a Notice in the Federal Register notifying the public that the Agency is preparing an information collection request for Office of Management and Budget (OMB) review and approval and to request public review and comment on the submission. At OPIC's request, OMB is reviewing this information collection for emergency processing for 90 days, under OMB control number 3420-0026. Comments are being solicited on the need for the information, its practical utility, the accuracy of the Agency's burden estimate, and on ways to minimize the reporting burden, including automated collection techniques and uses of other forms of technology. The proposed information collection request under review is summarized below.

DATES: Comments must be received on or before November 13, 2000.

ADDRESSES: Copies of the survey questions and the request for review prepared for submission to OMB may be obtained from the Agency Submitting Officer. Comments on the form should be submitted to the Agency Submitting Officer.

FOR FURTHER INFORMATION CONTACT: OPIC Agency Submitting Officer: Carol Brock, Records Manager, Overseas Private Investment Corporation, 1100 New York Avenue, NW, Washington, DC 20527, telephone (202) 336-8563.

Summary of Form Under Review

Type of Request: New information collection.

Title: OPIC Survey of Client Satisfaction.

Form Number: OPIC 232.

Frequency of Use: Once per client.

Type of Respondents: Individual business officer representative of business institutions.

Standard Industrial Classification Codes: All.

Description of Affected Public: U.S. companies or citizens investing overseas.

Reporting Hours: 20 minutes per client.

Number of Responses: 126.

Federal Cost: $8,820.

Authority for Information Collection: Executive Order 12862, Setting Customer Service Standards; President Clinton's Memorandum for Heads of Executive Departments and Agencies, Improving Customer Service (March 23, 1995).

Abstract (Needs and Uses): OPIC is surveying its clients to determine their satisfaction with its products and services. OPIC will use the survey results to ensure that strategies are in place to improve customer service, and to develop customer service standards and measure results against them.

Dated: September 5, 2000.
Rumu Sarkar,
Assistant General Counsel, Department of Legal Affairs.

[FR Doc. 00-23190 Filed 9-8-00; 8:45 am]

BILLING CODE 3210-01-M